SECURITIES AND EXCHANGE COMMISSION

[File No. 500-1]

In the Matter of America's Sports Voice, Inc. (n/k/a Milagro Holdings, Inc.), Dawcin International Corp., and Trans Continental Entertainment Group, Inc.; Order of Suspension of Trading

June 15, 2006.

It appears to the Securities and Exchange Commission that there is a lack of current and accurate information concerning the securities of America's Sports Voice, Inc. (n/k/a Milagro Holdings, Inc.) because it has not filed a periodic report since the period ended June 30, 2001.

It also appears to the Securities and Exchange Commission that there is a lack of current and accurate information concerning the securities of Dawcin International Corp. because it has not filed a periodic report since the period ended March 31, 1997.

It also appears to the Securities and Exchange Commission that there is a lack of current and accurate information concerning the securities of Trans Continental Entertainment Group, Inc. because it has not filed a periodic report since the period ended January 31, 2003.

The Commission is of the opinion that the public interest and the protection of investors require a suspension of trading in the securities of the above-listed companies.

Therefore, it is ordered that, pursuant to Section 12(k) of the Securities Exchange Act of 1934, trading in the above-listed companies is suspended for the period from 9:30 a.m. e.d.t. on June 15, 2006, through 11:59 p.m. e.d.t. on June 28, 2006.

By the Commission.
Nancy M. Morris,
Secretary.

[FR Doc. 06-5531 Filed 6-15-06; 11:24 am]

BILLING CODE 8010-01-P